DEPARTMENT OF HEALTH AND HUMAN SERVICES

National Institutes of Health

Center for Scientific Review; Amended Notice of Meeting

Notice is hereby given of a change in the meeting of the Center for Scientific Review Special Emphasis Panel, February 26, 2009, 8 a.m. to February 28, 2009, 5 p.m., National Institutes of Health, 6701 Rockledge Drive, Bethesda, MD, 20892 which was published in the Federal Register on February 6, 2009, 74 FR 6292-6294.

The meeting will be held March 25, 2009 to March 27, 2009. The meeting time and location remain the same. The meeting is closed to the public.

Dated: March 5, 2009.
Jennifer Spaeth,
Director, Office of Federal Advisory Committee Policy.

[FR Doc. E9-5344 Filed 3-12-09; 8:45 am]

BILLING CODE 4140-01-M